ENVIRONMENTAL PROTECTION AGENCY

40 CFR Part 52

[CA 151-0449a; FRL-7660-6]

Revisions to the California and Nevada State Implementation Plans, Ventura County Air Pollution Control District and Clark County Department of Air Quality Management

AGENCY: Environmental Protection Agency (EPA).

ACTION: Direct final rule.

SUMMARY: EPA is taking direct final action to approve revisions to the Ventura County Air Pollution Control District (VCAPCD) portion of the California State Implementation Plan (SIP) and the Clark County Department of Air Quality Management (CCDAQM) portion of the Nevada SIP. Under authority of the Clean Air Act as amended in 1990 (CAA or the Act), we are approving local rules that address Acid Deposition and the National Ambient Air Quality Standards (NAAQS).

DATES: This rule is effective on July 19, 2004, without further notice, unless EPA receives adverse comments by June 21, 2004. If we receive such comments, we will publish a timely withdrawal in the Federal Register to notify the public that this direct final rule will not take effect.

ADDRESSES: Send comments to Andy Steckel, Rulemaking Office Chief (AIR-4), U.S. Environmental Protection Agency, Region IX, 75 Hawthorne Street, San Francisco, CA 94105-3901 or e-mail to steckel.andrew@epa.gov, or submit comments at http://www.regulations.gov.

You can inspect copies of the submitted SIP revisions, EPA's technical support documents (TSDs), and public comments at our Region IX office during normal business hours by appointment. You may also see copies of the submitted SIP revisions by appointment at the following locations:

Air and Radiation Docket and Information Center, U.S. Environmental Protection Agency, Room B-102, 1301 Constitution Avenue, NW., (Mail Code 6102T), Washington, DC 20460

California Air Resources Board, Stationary Source Division, Rule Evaluation Section, 1001 “I” Street, Sacramento, CA 95814

Ventura County Air Pollution Control District, 669 County Square Drive, Ventura, CA 93003-5417

Nevada Department of Conservation and Natural Resources, Division of Environmental Protection, 333 W. Nye Lane, Room 138, Carson City, NV 89706

Clark County Department of Air Quality Management, 500 S. Grand Central Parkway, Las Vegas, NV 89155-5210

Copies of the VCAPCD and CCDAQM rules may also be available via the Internet at the following sites respectively, http://www.arb.ca.gov/drdb/drdbltxt.htm and http://www.accessclarkcounty.com/air_quality/index.htm. Please be advised that these are not EPA Web sites and may not contain the same versions of the rules that were submitted to EPA.

FOR FURTHER INFORMATION CONTACT: Julie A. Rose, EPA Region IX, (415) 947-4126, rose.julie@epa.gov.

SUPPLEMENTARY INFORMATION: Throughout this document, “we,” “us” and “our” refer to EPA.

Table of Contents

I. The States’ Submittals

A. What Rules Did the States Submit?

B. Are There Other Versions of These Rules?

C. What Is the Purpose of the Submitted rules?

II. EPA's Evaluation and Action

A. How Is EPA Evaluating the Rules?

B. Do the Rules Meet the Evaluation Criteria?

C. Public Comment and Final Action.

III. Statutory and Executive Order Reviews

I. The States' Submittal

A. What Rules Did the States Submit?

Table 1 lists the rules we are approving with the dates that they were adopted by the local air agencies and submitted by the California Air Resources Board (CARB) and the Nevada Department of Conservation and Natural Resources (NDCNR), respectively.

Table 1.—Submitted Rules
Local agency | Rule/section # | Rule/section title | Adopted | Submitted
VCAPCD | 34 | Acid Deposition Control | 03/14/95 | 05/24/95
CCDAQM | 11 | Ambient Air Quality Standards | 10/07/03 | 10/23/03

On July 24, 1995, VCAPCD Rule 34 was found to meet the completeness criteria in 40 CFR part 51, appendix V, which must be met before formal EPA review. CCDAQM Section 11 was found to meet the completeness criteria on November 18, 2003.

B. Are There Other Versions of These Rules?

There are no previous versions of VCAPCD Rule 34 in the California SIP. We approved a version of CCDAQM Section 11 into the Nevada SIP on August 27, 1981. The CCDAQM adopted a revision to the SIP-approved version on October 7, 2003 and the NDCNR submitted the revision to EPA on October 23, 2003.

C. What Is the Purpose of the Submitted Rules?

Section 110(a) of the CAA requires states to submit regulations that control volatile organic compounds, oxides of nitrogen, particulate matter, sulfur dioxide and other air pollutants which harm human health and the environment. These rules were developed as part of the local agencies' programs to control these pollutants.

VCAPCD Rule 34 adopts the CAA Title IV, Acid Rain Program by reference. The Acid Deposition Control program is designed to reduce the effects of acid rain through the reduction of sulfur dioxide (SO2) and nitrogen oxide (NOX) emissions. Rule 34 accepts delegation of the federal program which is currently being implemented as part of the District's Federal Operating Permit Program. There are no Phase I facilities in Ventura County. There are two sources that qualify as Phase II sources in Ventura County: boilers at the Ormond Beach and Mandalay Generating Stations operated by Southern California Edison Company.

CCDAQM Section 11 lists the National Ambient Air Quality Standards and the State Ambient Air Quality Standards. Section 11 has been revised to include the new 8-hour ozone standard and the particulate matter 2.5 microns (PM-2.5) standard. The standard for ozone is 0.08 parts per million averaged during an 8-hour period. The standard for PM-2.5 is based on an annual arithmetic mean of 15 micrograms per cubic meter and a 24-hour standard of 65 micrograms per cubic meter.

The TSDs have more information about these rules.

II. EPA's Evaluation and Action

A. How Is EPA Evaluating the Rules?

VCAPCD Rule 34 adopts the Federal Acid Deposition Control program by reference and CCDAQM Section 11 adopts the National Ambient Air Quality Standards into their regulations. These new rules support emission controls found in other sections of the local agencies' requirements. In combination with the other requirements, these rules must be enforceable (see section 110(a) of the Act) and must not relax existing requirements (see sections 110(l) and 193). EPA policy that we used to help evaluate enforceability requirements consistently includes the Bluebook (“Issues Relating to VOC Regulation Cutpoints, Deficiencies, and Deviations,” EPA, May 25, 1988) and the Little Bluebook (“Guidance Document for Correcting Common VOC & Other Rule Deficiencies,” EPA Region 9, August 21, 2001).

B. Do the Rules Meet the Evaluation Criteria?

We believe these rules are consistent with the relevant policy and guidance regarding enforceability and SIP relaxations. The TSDs have more information on our evaluation.

C. Public Comment and Final Action

As authorized in section 110(k)(3) of the Act, EPA is fully approving the submitted rules because we believe they fulfill all relevant requirements. We do not think anyone will object to this approval, so we are finalizing it without proposing it in advance. However, in the Proposed Rules section of this Federal Register, we are simultaneously proposing approval of the same submitted rules. If we receive adverse comments by June 21, 2004, we will publish a timely withdrawal in the Federal Register to notify the public that the direct final approval will not take effect and we will address the comments in a subsequent final action based on the proposal. If we do not receive timely adverse comments, the direct final approval will be effective without further notice on July 19, 2004. This will incorporate these rules into the federally enforceable SIP.

III. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 19, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Particulate matter, Reporting and recordkeeping requirements, Sulfur oxides.

Dated: April 27, 2004.
Wayne Nastri,
Regional Administrator, Region IX.

Part 52, chapter I, title 40 of the Code of Federal Regulations is amended as follows:

PART 52—[AMENDED]

1. The authority citation for part 52 continues to read as follows:

Authority: 42 U.S.C. 7401 et seq.

Subpart F—California

2. Section 52.220 is amended by adding paragraph (c)(220)(i)(E) to read as follows:

§ 52.220 Identification of plan.

* * * * *

(c) * * *

(220) * * *

(i) * * *

(E) Ventura County Air Pollution Control District.

(1) Rule 34 adopted on March 14, 1995.

* * * * *

Subpart DD—Nevada

3. Section 52.1470 is amended by adding paragraph (c)(46) to read as follows:

§ 52.1470 Identification of plan.

* * * * *

(c) * * *

(46) The following regulations were submitted on October 23, 2003, by the Governor's designee.

(i) Incorporation by reference.

(A) Clark County Department of Air Quality Management.

(1) Section 11 adopted on October 7, 2003.

* * * * *

[FR Doc. 04-11335 Filed 5-19-04; 8:45 am]

BILLING CODE 6560-50-P